DEPARTMENT OF COMMERCE

Foreign-Trade Zones Board

[S-173-2019]

Approval of Subzone Status; Café Oro de Puerto Rico, Inc., Lares, Puerto Rico

On August 22, 2019, the Executive Secretary of the Foreign-Trade Zones (FTZ) Board docketed an application submitted by the Puerto Rico Industrial Development Company, grantee of FTZ 7, requesting subzone status subject to the existing activation limit of FTZ 7, on behalf of Café Oro de Puerto Rico, Inc., in Lares, Puerto Rico.

The application was processed in accordance with the FTZ Act and Regulations, including notice in the Federal Register inviting public comment (84 FR 45123, August 28, 2019). The FTZ staff examiner reviewed the application and determined that it meets the criteria for approval.

Pursuant to the authority delegated to the FTZ Board Executive Secretary (15 CFR Sec. 400.36(f)), the application to establish Subzone 7R was approved on November 26, 2019, subject to the FTZ Act and the Board's regulations, including Section 400.13, and further subject to FTZ 7's 2,000-acre activation limit.

Dated: November 27, 2019.
Andrew McGilvray,
Executive Secretary.

[FR Doc. 2019-26152 Filed 12-2-19; 8:45 am]

BILLING CODE 3510-DS-P